DEPARTMENT OF DEFENSE

Defense Acquisition Regulations System

48 CFR Parts 204 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective December 16, 2014

FOR FURTHER INFORMATION CONTACT: Mr. Manuel Quinones, Defense Acquisition Regulations System, OUSD (AT&L) DPAP (DARS), Room 3B941, 3060 Defense Pentagon, Washington, DC 20301-3060. Telephone 571-372-6088; facsimile 571-372-6094.

SUPPLEMENTARY INFORMATION: This final rule amends the DFARS as follows:

1. Directs contracting officers to additional procedures and guidance by adding references to DFARS Procedures, Guidance, and Information PGI 204.7303 at DFARS 204.7302 and 204.7303. The existing DFARS 204.7303 is renumbered as 204.7304.

2. Updates the clause prescription reference at 252.204-7012.

List of Subjects in 48 CFR Parts 204 and 252

Government procurement.

Manuel Quinones,
Editor, Defense Acquisition Regulations System.

Therefore, 48 CFR parts 204 and 252 are amended as follows:

1. The authority citation for 48 CFR parts 204 and 252 continues to read as follows:

Authority: 41 U.S.C. 1303 and 48 CFR chapter 1.

PART 204—ADMINISTRATIVE MATTERS

204.7302 [Amended]

2. Amend section 204.7302 in paragraph (b)(2) by removing “assessing contractor compliance” and adding “assessing contractor compliance (see PGI 204.7303-3(a)(2))” in its place.

3. Revise section 204.7303 to read as follows:

204.7303 Procedures.

Follow the procedures relating to safeguarding unclassified controlled technical information at PGI 204.7303.

4. Add section 204.7304 to read as follows:

204.7304 Contract clause.

Use the clause at 252.204-7012, Safeguarding of Unclassified Controlled Technical Information, in all solicitations and contracts, including solicitations and contracts using FAR part 12 procedures for the acquisition of commercial items.

PART 252—SOLICITATION PROVISIONS AND CONTRACT CLAUSES

252.204-7012 [Amended]

5. Amend section 252.204-7012 by removing, in the introductory text, “As prescribed in 204.7303” and adding “As prescribed in 204.7304” in its place.

[FR Doc. 2014-29079 Filed 12-15-14; 8:45 am]

BILLING CODE 5001-06-P